SUSQUEHANNA RIVER BASIN COMMISSION

Public Hearing

AGENCY: Susquehanna River Basin Commission.

ACTION: Notice.

SUMMARY: The Susquehanna River Basin Commission will hold a public hearing on February 3, 2022. The Commission will hold this hearing in-person and telephonically. At this public hearing, the Commission will hear testimony on the projects listed in the Supplementary Information section of this notice. Such projects and proposals are intended to be scheduled for Commission action at its next business meeting, tentatively scheduled for March 17, 2022, which will be noticed separately. The public should take note that this public hearing will be the only opportunity to offer oral comment to the Commission for the listed projects and proposals. The deadline for the submission of written comments is February 14, 2022.

DATES: The public hearing will convene on February 3, 2022, at 6:30 p.m. The public hearing will end at 9:00 p.m. or at the conclusion of public testimony, whichever is earlier. The deadline for the submission of written comments is Monday, February 14, 2022.

ADDRESSES: This public hearing will be conducted in-person and telephonically. You may attend in person at Susquehanna River Basin Commission, 4423 N Front St., Harrisburg, Pennsylvania or join by Conference Call #: 1-888-387-8686, Conference Room #: 917 968 6050.

FOR FURTHER INFORMATION CONTACT: Jason Oyler, General Counsel and Secretary to the Commission, telephone: (717) 238-0423 or joyler@srbc.net.

Information concerning the applications for the projects is available at the Commission's Water Application and Approval Viewer at https://www.srbc.net/waav. Information concerning the proposals can be found at https://www.srbc.net/about/meetings-events/. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor and Facility: Artesian Water Company, Inc., New Garden Township, Chester County, Pa. Application for renewal of the transfer of water of up to 3.000 mgd (30-day average) from the Chester Water Authority (Docket No. 19961105).

2. Project Sponsor and Facility: Columbia Water Company, West Hempfield Township, Lancaster County, Pa. Applications for groundwater withdrawals (30-day averages) of up to 0.474 mgd from Chickies Well 2 and 0.596 mgd from Chickies Well 3.

3. Project Sponsor and Facility: Commonwealth Environmental Systems L.P., Foster, Frailey and Reilly Townships, Schuylkill County, Pa. Application for renewal of consumptive use of up to 0.150 mgd (peak day) (Docket No. 20070304).

4. Project Sponsor: Compass Quarries, Inc. Project Facility: Allan Myers Materials—Paradise Quarry, Paradise Township, Lancaster County, Pa. Modification to increase consumptive use (peak day) by an additional 0.068 mgd, for a total consumptive use of up to 0.150 mgd (Docket No. 20040608).

5. Project Sponsor: Corning Incorporated. Project Facility: Sullivan Park, Town of Erwin, Steuben County, N.Y. Applications for renewal of groundwater withdrawals (30-day averages) of up to 0.800 mgd from Well 2 and 0.800 mgd from Well 3, and consumptive use of up to 0.350 mgd (peak day) (Docket No. 19970705).

6. Project Sponsor and Facility: Coterra Energy Inc. (Meshoppen Creek), Lemon Township, Wyoming County, Pa. Application for renewal of surface water withdrawal of up to 1.000 mgd (peak day) (Docket No. 20170302).

7. Project Sponsor: County of Lycoming. Project Facility: Lycoming County Resource Management Services, Brady Township, Lycoming County, Pa. Application for renewal of consumptive use of up to 0.099 mgd (30-day average) (Docket No. 20070302).

8. Project Sponsor and Facility: Deep Woods Lake LLC, Dennison Township, Luzerne County, Pa. Applications for groundwater withdrawal of up to 0.200 mgd (30-day average) from Well SW-5 and consumptive use of up to 0.467 mgd (peak day).

9. Project Sponsor and Facility: Eagles Mere Country Club, Eagles Mere Borough and Shrewsbury Township, Sullivan County, Pa. Application for renewal of consumptive use of up to 0.120 mgd (peak day) (Docket No. 19970302).

10. Project Sponsor and Facility: EQT ARO LLC (West Branch Susquehanna River), Nippenose Township, Lycoming County, Pa. Application for renewal of surface water withdrawal of up to 0.720 mgd (peak day) (Docket No. 20170301).

11. Project Sponsor: Farmers Pride, Inc. Project Facility: Bell & Evans Plant 3, Bethel Township, Lebanon County, Pa. Applications for groundwater withdrawals (30-day averages) of up to 0.108 mgd from Well PW-1, 0.139 mgd from Well PW-2, and 0.179 mgd from Well PW-4.

12. Project Sponsor and Facility: Geisinger Health System, Mahoning Township, Montour County, Pa. Applications for renewal of consumptive use of up to 0.499 mgd (peak day) and groundwater withdrawal of up to 0.075 mgd (30-day average) from Well 3, as well as recognizing, assessing, and regulating historical withdrawals from the Mine Shaft Well (Docket No. 19910103).

13. Project Sponsor: Hampden Township. Project Facility: Armitage Golf Club, Hampden Township, Cumberland County, Pa. Application for renewal of consumptive use of up to 0.290 mgd (peak day) (Docket No. 19920101).

14. Project Sponsor and Facility: Millersburg Area Authority, Upper Paxton Township, Dauphin County, Pa. Application for renewal of groundwater withdrawal of up to 0.117 mgd (30-day average) from Well 14 (Docket No. 19930301).

15. Project Sponsor and Facility: Municipal Authority of the Township of East Hempfield dba Hempfield Water Authority, East Hempfield Township, Lancaster County, Pa. Applications for renewal of groundwater withdrawals (30-day averages) of up to 0.353 mgd from Well 6, 0.145 mgd from Well 7, 1.447 mgd from Well 8, and 1.800 mgd from Well 11, and Commission-initiated modification to Docket No. 20120906, which approves withdrawals from Wells 1, 2, 3, 4, and 5 and Spring S-1 (Docket Nos. 19870306, 19890503, 19930101, and 20120906).

16. Project Sponsor and Facility: Repsol Oil & Gas USA, LLC (Sugar Creek), West Burlington Township, Bradford County, Pa. Application for renewal of surface water withdrawal of up to 0.750 mgd (peak day) (Docket No. 20170308).

Project Scheduled for Action Involving a Diversion

17. Project Sponsor and Facility: Chester Water Authority, New Garden Township, Chester County, Pa. Applications for renewal of consumptive use and for an out-of-basin diversion of up to 3.000 mgd (30-day average) (Docket No. 19961104).

Opportunity To Appear and Comment

Interested parties may call into the hearing to offer comments to the Commission on any business listed above required to be the subject of a public hearing. Given the nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 6:15 p.m. Guidelines for the public hearing are posted on the Commission's website, www.srbc.net, prior to the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before February 14, 2021, to be considered.

Authority: Pub. L. 91-575, 84 Stat. 1509 et seq., 18 CFR parts 806, 807, and 808.

Dated: January 6, 2022.
Jason E. Oyler,
General Counsel and Secretary to the Commission.

[FR Doc. 2022-00320 Filed 1-10-22; 8:45 am]

BILLING CODE 7040-01-P